DEPARTMENT OF TRANSPORTATION

Federal Aviation Administration

Notice of Opportunity for Public Comment on Grant Acquired Property Release at Lexington County, Pelion, SC

AGENCY: Federal Aviation Administration (FAA), DOT.

ACTION: Notice.

SUMMARY: Under the provisions of Title 49, U.S.C. 47107(h)(2), notice is being given that the FAA is considering a request from the County of Lexington to waive the requirement that approximately 2.38—acres of airport property, located at the Lexington County Airport, be used for aeronautical purposes.

DATES: Comments must be received on or before October 25, 2006.

ADDRESSES: Comments on this notice may be mailed or delivered in triplicate to the FAA at the following address: Atlanta Airports District Office, Attn: Parks Preston, Program Manager, 1701 Columbia Ave., Suite 2-260, Atlanta, GA 30337-2747.

In addition, one copy of any comments submitted to the FAA must be mailed or delivered to Katherine L. Doucett, County Administrator for Lexington County at the following address: Lexington County Administrator, 212 South Lake Drive, Lexington, SC 29072.

FOR FURTHER INFORMATION CONTACT: Parks Preston, Program Manager, Atlanta Airports District Office, 1701 Columbia Ave., Suite 2-260, Atlanta, GA 30337-2747, (404) 305-7149. The application may be reviewed in person at this same location.

SUPPLEMENTARY INFORMATION: The FAA is reviewing an application by the County of Lexington to release approximately 2.38 acres of airport property at the Lexington County Airport. The property consists of one parcel located on the west side of the airport along South Carolina Highway 625. This property is currently shown on the approved Airport Layout Plan as aeronautical use land; however the property is currently not being used for aeronautical purposes and the proposed use of this property is compatible with airport operations. The County will ultimately sell the property for a future South Region Public Safety Service Center with proceeds of the sale providing funding for future airport development.

Any person may inspect the application in person at the FAA office listed above under FOR FURTHER INFORMATION CONTACT. In addition, any person may, upon request, inspect the application, notice and other documents germane to the request in person at the Lexington County government offices.

Issued in Atlanta, Georgia on September 8, 2006.
Scott L. Seritt,
Manager, Atlanta Airports District Office, Southern Region.

[FR Doc. 06-8125 Filed 9-22-06; 8:45 am]

BILLING CODE 4910-13-M